DEPARTMENT OF HEALTH AND HUMAN SERVICES

National Institutes of Health

National Cancer Institute; Amended Notice of Meeting

Notice is hereby given of a change in the meeting of the National Cancer Institute Special Emphasis Panel, February 27, 2017, 08:00 a.m. to February 28, 2017, 12:00 p.m., Ritz-Carlton Hotel, 1700 Tysons Boulevard, McLean, VA, 22102 which was published in the Federal Register on January 27, 2017, 82 FR 8619.

The meeting notice is amended to change the name of the meeting to NCI R03/R21 SEP-4. The meeting is closed to the public.

Dated: February 1, 2017.
Melanie J. Pantoja,
Program Analyst, Office of Federal Advisory Committee Policy.

[FR Doc. 2017-02432 Filed 2-6-17; 8:45 am]

BILLING CODE 4140-01-P